COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes a product and services from the Procurement List previously furnished by such agencies.

DATES: Effective Date: 7/4/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 3/11/2011 (76 FR 13362-13363); 3/25/2011 (76 FR 16733-16734); 4/1/2011 (76 FR 18188-18189); and 4/8/2011 (76 FR 19750-19751), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: MR 350—Containers, Storage, 12PG.

NSN: MR 351—Containers, Storage, 20PG.

NSN: MR 1120—Bag, Storage, Vacuum Sealed, 6PG.

NPA: Industries for the Blind, Inc., West Allis, WI.

Contracting Activity: Military Resale-Defense Commissary Agency, Fort Lee, VA.

Coverage: C-List for the requirements of military commissaries and exchanges as aggregated by the Defense Commissary Agency.

NSN: PGC496—Shirt, Winter Dress, USCG, Unisex, Long Sleeve, Blue, PGC 496.

NPA: Oswego Industries, Inc., Fulton, NY.

Contracting Activity: Department Of Homeland Security, U.S. Coast Guard, HQ Contract Operations (CG-912), Washington, DC.

Coverage: C-List for 100% of the requirement of the U.S. Coast Guard, as aggregated by the U.S. Coast Guard.

NSN: 5315-00-598-5916—Cotter Pin Assortment.

NPA: Good Vocations, Inc., Macon, GA.

Contracting Activity: General Services Administration, Fort Worth, TX.

Coverage: B-List for the Broad Government requirement as aggregated by the General Services Administration.

Services

Service Type/Location: Janitorial Service, US Army Corps of Engineers Records Holding Area (RHA), Transatlantic Programs Center, 188 Brooke Road, Winchester, VA.

NPA: NW Works, Inc., Winchester, VA

Contracting Activity: Dept of the Army, W31R Endiv Transatlantic, Winchester, VA.

Service Type/Location: Central Issue Facility Service, Fort Hood, Texas.

NPA: Skookum Educational Programs, Bremerton, WA.

Contracting Activity: Dept of the Army, W6QM Ft Sam Houston Contr Ctr, Fort Sam Houston, TX.

Deletions

On 3/25/2011 (76 FR 16733-16734) and 4/8/2011 (76 FR 19750-19751), the Committee for Purchase From People Who Are Blind or Severely Disabled published notices of proposed deletions from the Procurement List.

After consideration of the relevant matter presented, the Committee has determined that the product and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Product

NSN: 1560-00-870-1656—Cover Access.

NPA: The Lighthouse for the Blind, Inc. (Seattle Lighthouse), Seattle, WA.

Contracting Activity Defense Logistics Agency Aviation, Richmond, VA.

Services

Service Types/Locations: Janitorial/Custodial, Veterans Integrated Support Network 16, Ridgeland, MS.

Administrative Services, Veterans Affairs Medical Center, 500 East Woodrow Wilson Drive, Jackson, MS.

NPA: Goodwill Industries of Mississippi, Inc., Ridgeland, MS.

Contracting Activity: Department of Veterans Affairs, NAC, Hines, IL.

Barry S. Lineback,
Director, Business Operations.

[FR Doc. 2011-13799 Filed 6-2-11; 8:45 am]

BILLING CODE 6353-01-P